DEPARTMENT OF TRANSPORTATION

Federal Aviation Administration

14 CFR Part 39

[Docket No. FAA-2005-22309; Directorate Identifier 2005-NM-159-AD; Amendment 39-14254; AD 2005-18-14]

RIN 2120-AA64

Airworthiness Directives; Avions Marcel Dassault-Breguet Model Falcon 10 Airplanes

AGENCY: Federal Aviation Administration (FAA), Department of Transportation (DOT).

ACTION: Final rule; request for comments.

SUMMARY: The FAA is superseding an existing airworthiness directive (AD) that applies to all Dassault Model Falcon 10 series airplanes. The existing AD currently requires revising the airplane flight manual (AFM) and installing a placard in the flight deck to prohibit flight into known or forecasted icing conditions. In lieu of the AFM revision and placard installation, that AD allows identifying the part number of each flexible hose in the wing (slat) anti-icing system, performing repetitive inspections of each hose for delamination, and performing corrective actions if necessary. This AD adds the following actions (also in lieu of the AFM revision and placard installation): New repetitive inspections for delamination at reduced intervals, corrective actions if necessary, and an additional AFM revision to include a statement to track flight cycles when the slat anti-icing system is activated. This AD also provides an option to repetitively replace the existing flexible hoses with improved flexible hoses, which terminates the repetitive inspection requirements. This AD results from a report of in-service delamination of a flexible hose in the slat anti-icing system at a time earlier than previously reported. We are issuing this AD to prevent collapse of the flexible hoses in the slat anti-icing system, which could lead to insufficient anti-icing capability and, if icing is encountered in this situation, could result in reduced controllability of the airplane.

DATES: This AD becomes effective September 26, 2005.

The Director of the Federal Register approved the incorporation by reference of certain publications listed in the AD as of September 26, 2005.

On April 26, 2005 (70 FR 18282, April 11, 2005), the Director of the Federal Register approved the incorporation by reference of Dassault Alert Service Bulletin F10-A312, dated February 25, 2005, including the Service Bulletins Compliance Card.

We must receive any comments on this AD by November 8, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Dassault Falcon Jet, P.O. Box 2000, South Hackensack, New Jersey 07606, for service information identified in this AD.

You may examine the contents of the AD docket on the Internet at http://dms.dot.gov, or in person at the Docket Management Facility, U.S. Department of Transportation, 400 Seventh Street, SW., Room PL-401, on the plaza level of the Nassif Building, Washington, DC. This docket number is FAA-2005-22309; the directorate identifier for this docket is 2005-NM-159-AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Discussion

On March 31, 2005, the FAA issued AD 2005-07-23, amendment 39-14048 (70 FR 18282, April 11, 2005). That AD applies to all Dassault Model Falcon 10 series airplanes. That AD requires revising the Limitations section of the airplane flight manual (AFM) to include a statement prohibiting flight into known or forecasted icing conditions, and installing a placard in the flight deck. In lieu of the AFM revision and placard installation, that AD allows identifying the part number of each flexible hose in the wing (slat) anti-icing system, performing repetitive detailed inspections of each hose for delamination, and performing corrective actions if necessary. That AD resulted from a report of delamination of the internal wall of a flexible hose in the slat anti-icing system. The actions specified in that AD are intended to prevent collapse of the flexible hoses in the slat anti-icing system, which could lead to insufficient anti-icing capability and, if icing is encountered in this situation, could result in reduced controllability of the airplane.

Actions Since AD Was Issued

Since we issued that AD the Direction Générale de l'Aviation Civile (DGAC), which is the airworthiness authority for France, informed us of an in-service delamination of a flexible hose in the slat anti-icing system at a time earlier than previously reported.

In addition, the preamble to AD 2005-07-23 explains that we consider the requirements “interim action” and were considering further rulemaking. We now have determined that further rulemaking is indeed necessary, and, although a final action has not yet been developed, this AD follows from that determination.

Relevant Service Information

Avions Marcel Dassault-Breguet has issued Dassault Alert Service Bulletin F10-A312, Revision 1, dated June 27, 2005. The existing AD refers to Dassault Alert Service Bulletin F10-A312, dated February 25, 2005, as the appropriate source of service information for accomplishing the required actions of that AD. Dassault Alert Service Bulletin F10-A312, Revision 1, describes procedures for a visual check and an improved boroscope inspection of the internal walls of each flexible hose in the slat anti-icing system for blistering (delamination), and performing corrective actions if necessary. The corrective actions include replacing any hose that doesn't have a certain part number with a hose having the part number specified in the service bulletin, and replacing any damaged hose with a new hose having the part number specified in the service bulletin. The DGAC mandated the service bulletin and issued French emergency airworthiness directive EASA.A.AD.01001, dated June 29, 2005, to ensure the continued airworthiness of these airplanes in France.

Avions Marcel Dassault-Breguet has also issued Dassault Service Bulletin F10-313, dated August 10, 2005. This service bulletin describes procedures for replacing the existing flexible hoses with improved flexible hoses, having a new part number. These new flexible hoses have a temporary life limit of 90 flight cycles during which the slat anti-icing system is in use.

Accomplishing the actions specified in the service information is intended to adequately address the unsafe condition.

FAA's Determination and Requirements of This AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to supersede AD 2005-07-23. This new AD retains the requirements of the existing AD. This AD also:

• Provides an improved inspection method and reduces the intervals for the inspections;

• Provides an option to repetitively replace the existing flexible hoses with improved flexible hoses, which terminates the repetitive inspection requirements;

• Requires revising the Limitations section of the AFM to provide a mechanism for tracking flight cycles in which the slat anti-icing system is activated; and

• Requires sending the inspection results to the manufacturer.

Differences Between the AD and the French Emergency Airworthiness Directive

This AD differs from the French emergency airworthiness directive in that it includes the option to install improved flexible hoses. The airplane manufacturer is requesting that the DGAC approve this option as an alternative method of complying with French emergency airworthiness directive EASA.A.AD.01001.

This AD also differs from the French emergency airworthiness directive by requiring an AFM revision to enable the tracking of flight cycles in which the slat anti-icing system is activated. The French emergency airworthiness directive contains instructions to the flightcrew to record in the flight log any time the anti-icing system switch is on during flight, but does not specify an AFM revision.

These differences have been coordinated with the DGAC.

Interim Action

This AD is considered to be interim action. The inspection reports that are required by this AD will enable the manufacturer to obtain better insight into the nature, cause, and extent of the delamination of the internal walls of a flexible hose, and eventually to develop final action to address the unsafe condition. Once final action has been identified, we may consider further rulemaking.

FAA's Determination of the Effective Date

An unsafe condition exists that requires the immediate adoption of this AD; therefore, providing notice and opportunity for public comment before the AD is issued is impracticable, and good cause exists to make this AD effective in less than 30 days.

Explanation of Change to Applicability

We have revised the applicability of the AD to identify the model designation as published in the most recent type certificate data sheet for the affected model.

Clarification of Inspection Terminology

In this AD, the “visual check” specified in Dassault Alert Service Bulletin F10-A312, Revision 1, is referred to as a “detailed inspection.” We have included the definition for a detailed inspection in a note in this AD.

Comments Invited

This AD is a final rule that involves requirements that affect flight safety and was not preceded by notice and an opportunity for public comment; however, we invite you to submit any relevant written data, views, or arguments regarding this AD. Send your comments to an address listed in the ADDRESSES section. Include “Docket No. FAA-2005-22309; Directorate Identifier 2005-NM-159-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14048 (70 FR 18282, April 11, 2005) and adding the following new AD:

2005-18-14 Avions Marcel Dassault-Breguet Aviation (AMD/BA): Docket No. FAA-2005-22309; Directorate Identifier 2005-NM-159-AD; Amendment 39-14254.

Effective Date

(a) This AD becomes effective September 26, 2005.

Affected ADs

(b) This AD supersedes AD 2005-07-23.

Applicability

(c) This AD applies to all Avions Marcel Dassault-Breguet Model Falcon 10 airplanes, certificated in any category.

Unsafe Condition

(d) This AD results from a report of in-service delamination of a flexible hose in the slat anti-icing system at a time earlier than previously reported. We are issuing this AD to prevent collapse of the flexible hoses in the slat anti-icing system, which could lead to insufficient anti-icing capability and, if icing is encountered in this situation, could result in reduced controllability of the airplane.

Compliance

(e) You are responsible for having the actions required by this AD performed within the compliance times specified, unless the actions have already been done.

Restatement of the Requirements of AD 2005-07-23

Repetitive Inspections, or Airplane Flight Manual (AFM) Revision and Placard Installation

(f) Within 14 days after April 26, 2005 (the effective date of AD 2005-07-23), perform the actions specified in either paragraph (f)(1) or (f)(2) of this AD:

(1) Revise the Limitations section of the Dassault Aviation Falcon 10 AFM, and install a placard in the flight deck, to include the following information.

“Flights into known or forecasted icing conditions are prohibited.”

The AFM revision may be done by inserting a copy of this AD into the AFM. Install the placard on the pedestal in clear view of the pilot.

(2) Determine the part number of each flexible hose installed in the slat anti-icing system, perform a detailed inspection of the internal walls of the hoses for delamination, and perform any applicable corrective action, by accomplishing all of the applicable actions specified in the Accomplishment Instructions of Dassault Alert Service Bulletin F10-A312, dated February 25, 2005. If the part number for any hose cannot be determined, before further flight, replace that hose with a hose having part number (P/N) FAL1005D. Any corrective action must be done before further flight. Repeat the detailed inspection thereafter at intervals not to exceed 60 flight cycles or 3 months, whichever is first, until the actions required by paragraph (i) of this AD are accomplished.

Note 1: When a statement identical to that in paragraph (f)(1) of this AD has been included in the general revision of the AFM, the general revision may be inserted into the AFM, and the copy of this AD may be removed from the AFM.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(g) For airplanes on which the actions described in paragraph (f)(1) of this AD are performed, doing the actions described in paragraph (f)(2) of this AD is terminating action for the requirements of paragraph (f)(1) of this AD. Once the initial detailed inspection specified in paragraph (f)(2) of this AD is performed, the AFM limitation and placard required by paragraph (f)(1) of this AD may be removed.

New Requirements of This AD

New Inspections and Intervals

(h) For airplanes not operated under the limitation in paragraph (f)(1) of this AD, before the next 10 flight cycles in which the slat anti-icing system is activated after the effective date of this AD: Do a boroscope inspection of each flexible hose installed in the slat anti-icing system. Do all the inspections and any applicable corrective action (including replacing the hose with a new hose having P/N FAL1005D), by accomplishing all of the applicable actions specified in the Accomplishment Instructions of Dassault Alert Service Bulletin F10-A312, Revision 1, dated June 27, 2005. Any corrective action must be done before further flight. Repeat the inspection thereafter at intervals not to exceed 10 flight cycles in which the slat anti-icing system is activated. Doing this inspection terminates the repetitive inspection requirements of paragraph (f)(2) of this AD.

(i) For airplanes on which the actions described in paragraph (f)(1) of this AD are performed, doing the actions described in paragraph (h) of this AD is terminating action for the requirements of paragraph (f)(1) of this AD. Once the initial boroscope inspection specified in paragraph (h) of this AD is performed, the AFM limitation and placard required by paragraph (f)(1) of this AD may be removed.

AFM Revision

(j) For airplanes not operated under the limitation in paragraph (f)(1) of this AD, before further flight after the effective date of this AD: Revise the Limitations section of the Dassault Aviation Falcon 10 AFM, to include the following information.

“After each flight in which the slat anti-ice system is activated, inform maintenance.”

The AFM revision may be done by inserting a copy of this AD into the AFM.

Note 3: When a statement identical to that in paragraph (j)(1) of this AD has been included in the general revision of the AFM, the general revision may be inserted into the AFM, and the copy of this AD may be removed from the AFM.

Optional Replacement

(k) For airplanes not operated under the limitation in paragraph (f)(1) of this AD: Replacing the flexible hose installed in the slat anti-icing system with a new hose having P/N FAL1007, in accordance with the Accomplishment Instructions of Dassault Service Bulletin F10-313, dated August 10, 2005, terminates the repetitive inspection intervals of paragraph (h) and (f)(2) of this AD. Repeat the replacement thereafter at intervals not to exceed 90 flight cycles in which the slat anti-icing system is activated.

Reporting Requirement

(l) At the applicable time specified in paragraph (l)(1) or (l)(2) of this AD: After performing any inspection required by this AD, submit a report of the findings (positive and negative) of the inspection to: Dassault Falcon Jet, Attn: Service Engineering/Falcon 10, fax: (201) 541-4700. The report must include the airplane serial number, the location of the hose (inboard or outboard), the number of flight hours since hose installation, the number of cycles in icing conditions, and the manufacturing date and batch number of the hose. Submission of the Service Bulletins Compliance card, which is attached to Dassault Alert Service Bulletin F10-A312, is an acceptable method of complying with this requirement. Under the provisions of the Paperwork Reduction Act of 1980 (44 U.S.C. 3501 et seq.), the Office of Management and Budget (OMB) has approved the information collection requirements contained in this AD and has assigned OMB Control Number 2120-0056.

(1) If the inspection is done after the effective date of this AD: Submit the report within 30 days after the inspection.

(2) If the inspection was done before the effective date of this AD: Submit the report within 30 days after the effective date of this AD.

Actions Accomplished in Accordance With Previous Issue of Service Bulletin

(m) Actions accomplished before the effective date of this AD in accordance with the Accomplishment Instructions of Dassault Alert Service Bulletin F10-A312, dated February 25, 2005, are acceptable for compliance with the corresponding action in this AD.

Alternative Methods of Compliance (AMOCs)

(n) The Manager, International Branch, ANM-116, Transport Airplane Directorate, FAA, has the authority to approve AMOCs for this AD, if requested in accordance with the procedures found in 14 CFR 39.19.

Related Information

(o) French emergency airworthiness directive EASA.A.AD.01001, dated June 29, 2005, also addresses the subject of this AD.

Material Incorporated by Reference

(p) You must use Dassault Alert Service Bulletin F10-A312, dated February 25, 2005, including the Service Bulletins Compliance Card; and Dassault Alert Service Bulletin F10-A312, Revision 1, dated June 27, 2005, including the Service Bulletins Compliance Card; as applicable; to perform the actions that are required by this AD, unless the AD specifies otherwise. If accomplished, you must used Dassault Service Bulletin F10-313, dated August 10, 2005, to perform the optional replacement specified by this AD.

(1) The Director of the Federal Register approved the incorporation by reference of Dassault Alert Service Bulletin F10-A312, Revision 1, dated June 27, 2005, including the Service Bulletins Compliance Card; and Dassault Service Bulletin F10-313, dated August 10, 2005; in accordance with 5 U.S.C. 552(a) and 1 CFR part 51.

(2) On April 26, 2005 (70 FR 18282, April 11, 2005), the Director of the Federal Register approved the incorporation by reference of Dassault Alert Service Bulletin F10-A312, dated February 25, 2005, including the Service Bulletins Compliance Card.

(3) Contact Dassault Falcon Jet, P.O. Box 2000, South Hackensack, New Jersey 07606, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 26, 2005.
Ali Bahrami,
Manager, Transport Airplane Directorate, Aircraft Certification Service.

[FR Doc. 05-17598 Filed 9-8-05; 8:45 am]

BILLING CODE 4910-13-P